SOCIAL SECURITY ADMINISTRATION

[Docket No: SSA-2021-0003]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

Comments: https://www.reginfo.gov/public/do/PRAMain. Submit your comments online referencing Docket ID Number [SSA-2021-0003].

(SSA) Social Security Administration, OLCA, Attn: Reports Clearance Director, 3100 West High Rise, 6401 Security Blvd., Baltimore, MD 21235, Fax: 410-966-2830, Email address: OR.Reports.Clearance@ssa.gov

Or you may submit your comments online through https://www.reginfo.gov/public/do/PRAMain, referencing Docket ID Number [SSA-2021-0003].

I. The information collections below are pending at SSA. SSA will submit them to OMB within 60 days from the date of this notice. To be sure we consider your comments, we must receive them no later than April 30, 2021. Individuals can obtain copies of the collection instruments by writing to the above email address.

1. Certification by Religious Group—20 CFR 404.1075—0960-0093. SSA is responsible for determining whether religious groups meet the qualifications exempting certain members and sects from payment of Self-Employment Contribution Act taxes under the Internal Revenue Code, Section 1402(g). SSA sends Form SSA-1458, Certification by Religious Group, to a group's authorized spokesperson to complete and verify organizational members meet or continue to meet the criteria for exemption. The respondents are spokespersons for religious groups or sects.

Type of Request: Revision of an OMB-approved information collection.

Modality of completion | Number of respondents | Frequency of response | Average burden per response (minutes) | Estimated total annual burden (hours) | Average theoretical hourly cost amount (dollars) * | Total annual opportunity cost (dollars) **
SSA-1458 | 142 | 1 | 45 | 107 | * $25.72 | ** $2,752
* We based this figure on the average U.S. citizen's hourly salary, as reported by the U.S. Bureau of Labor Statistics (https://www.bls.gov/oes/current/oes_nat.htm).
** This figure does not represent actual costs that SSA is imposing on recipients of Social Security payments to complete this application; rather, these are theoretical opportunity costs for the additional time respondents will spend to complete the application. There is no actual charge to respondents to complete the application.

2. Filing Claims Under the Federal Tort Claims Act—20 CFR 429.101-429.110—0960-0667. The Federal Tort Claims Act (FTCA) is the mechanism for compensating people who Federal employees injured through negligent or wrongful acts that occurred during the performance of those employees' official duties. SSA accepts claims filed under the FTCA for damages against the United States; loss of property; personal injury; or death resulting from an SSA employee's wrongful act or omission. The various types of claims included under this information collection request require claimants to provide information SSA can use to determine whether to make an award, compromise, or settlement under the FTCA. The respondents are individuals or entities making a claim under the FTCA.

Type of Request: Revision of an OMB-approved information collection.

Regulation citations | Number of respondents | Frequency of response | Average burden per response (minutes) | Estimated total annual burden (hours) | Average theoretical hourly cost amount (dollars) ** | Total annual opportunity cost (dollars) ***
429.102; 429.103 * | 1 | 1 | 1 | 0 | ** $25.72 | *** $0
429.104(a) | 11 | 1 | 5 | 1 | ** 25.72 | *** 26
429.104(b) | 43 | 1 | 5 | 4 | ** 25.72 | *** 103
429.104(c) | 1 | 1 | 5 | 0 | ** 25.72 | *** 0
429.106(b) | 8 | 1 | 10 | 1 | ** 25.72 | *** 26
Totals | 64 |  |  | 6 |  | *** 155
* We are including a one-hour placeholder burden for 20 CFR 429.102 and 429.103, as respondents complete OMB-approved Form SF-95, OMB No. 1105-0008. Since the burden for these citations is covered under a separate OMB number, we are not double-counting the burden here.
** We based this figure on the average U.S. citizen's hourly salary, as reported by the U.S. Bureau of Labor Statistics (https://www.bls.gov/oes/current/oes_nat.htm).
*** This figure does not represent actual costs that SSA is imposing on recipients of Social Security payments to complete this application; rather, these are theoretical opportunity costs for the additional time respondents will spend to complete the application. There is no actual charge to respondents to complete the application.

3. Application for Extra Help with Medicare Prescription Drug Plan Costs—20 CFR 418.3101—0960-0696. The Medicare Modernization Act of 2003 mandated the creation of the Medicare Part D prescription drug coverage program and the provision of subsidies for eligible Medicare beneficiaries. SSA uses Form SSA-1020, or the internet version, i1020, the Application for Extra Help with Medicare Prescription Drug Plan Costs, to obtain income and resource information from Medicare beneficiaries, and to make a subsidy decision. The respondents are Medicare beneficiaries applying for the Part D low-income subsidy.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-1020 (paper applications) | 448,836 | 1 | 30 | 224,418 | * $25.72 | 0 | *** $5,772,031
i1020 (online applications) | 365,871 | 1 | 25 | 152,446 | 25.72 | 0 | *** 3,920,911
Field Office Interviews | 85,873 | 1 | 30 | 42,937 | * 25.72 | ** 24 | *** 1,987,796
Totals | 900,580 |  |  | 419,801 |  |  | *** 11,680,738
* We based this figure on the average U.S. citizen's hourly salary, as reported by the U.S. Bureau of Labor Statistics (https://www.bls.gov/oes/current/oes_nat.htm).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

4. Rules of Conduct and Standards of Responsibility for Appointed Representatives—20 CFR 404.1740(b)(5), 404.1740(b)(6), 404.1740(b)(9), 416.1540(b)(5), 416.1540(b)(6), and 416.1540(b)(9)—0960-0804. Section 205(a) of the Social Security Act (Act) authorizes SSA's Commissioner to make rules and regulations and to establish procedures which are necessary or appropriate. Section 1631(d)(1) of the Act incorporates section 205(a) and applies it to Title XVI of the Act. Additionally, sections 206(a) and 1631(d)(2) of the Act provide that the Commissioner has the authority to establish rules and regulations governing the recognition of individuals who represent claimants before the Commissioner. Individuals appointed to represent claimants before SSA must report to SSA in writing whenever one of the following situations in our revised regulations occurs:

• 20 CFR 404.1740(b)(5) and 416.1540(b)(5)—These sections require representatives to disclose to SSA in writing, at the time a medical or vocational opinion is submitted to SSA, or as soon as the representative is aware of the submission to us, if the representative's employee or any individual contracting with the representative drafted, prepared, or issued a medical or vocational opinion about a claimant's disability, or if the representative referred or suggested that the claimant seek an examination from, treatment by, or the assistance of the individual providing opinion evidence;

• 20 CFR 404.1740(b)(6) and 416.1540(b)(6)—These sections require representatives to disclose to SSA immediately if the representative discovers that his or her services are or were used by the claimant to commit fraud against SSA;

• 20 CFR 404.1740(b)(7) and 416.1540(b)(7)—These sections require representatives to disclose to SSA whether the representative is or has been disbarred or suspended from any bar or court to which he or she was previously admitted to practice, including instances in which a bar or court took administrative action to disbar or suspend the representative in lieu of disciplinary proceedings; If the disbarment or suspension occurs after the appointment of the representative, the representative will immediately disclose the disbarment or suspension to SSA;

• 20 CFR 404.1740(b)(8) and 416.1540(b)(8)—These sections require representatives to disclose to SSA whether the representative is or has been disqualified from participating in or appearing before any Federal program or agency, including instances in which a Federal program or agency took administrative action to disqualify the representative in lieu of disciplinary proceedings. If the disqualification occurs after the appointment of the representative, the representative will immediately disclose the disqualification to SSA; and

• 20 CFR 404.1740(b)(9) and 416.1540(b)(9)—These sections require representatives to disclose to SSA whether the representative has been removed from practice or suspended by a professional licensing authority for reasons that reflect on the representative's character, integrity, judgment, reliability, or fitness to serve as a fiduciary. If the removal or suspension occurs after the appointment of the representative, the representative will immediately disclose the removal or suspension to SSA.

A representative's obligation to report these events is ongoing, and SSA requires representatives to report any time one or more of these events occurs. We consider this information essential to ensure the integrity of our administrative process and to safeguard the rights of all claimants. SSA requires representatives to notify SSA in writing, but there is no prescribed format for these reports. The respondents are individuals appointed to represent claimants before SSA.

Type of Request: Revision of an OMB-approved information collection.

Modality of completion | Number of respondents | Frequency of response | Average burden per response (minutes) | Estimated total annual burden (hours) | Average theoretical hourly cost amount (dollars) * | Total annual opportunity cost (dollars) **
404.1740(b)(5)/416.1540(b)(5) | 43,600 | 1 | 5 | 3,633 | * $26.45* | ** $96,093
404.1740(b)(6)/416.1540(b)(6) | 2 | 1 | 5 | 0 | * 69.86 | ** 0
404.1740(b)(7)/416.1540(b)(7) | 50 | 1 | 5 | 4 | * 69.86 | ** 279
404.1740(b)(8)/416.1540(b)(8) | 10 | 1 | 5 | 1 | * 69.86 | ** 70
404.170(b)(9)/416.1540(b)(9) | 10 | 1 | 5 | 1 | * 69.86 | ** 70
Totals | 43,672 |  |  | 3,639 |  | ** 96,512
* We based these figures on average hourly wages for paralegals/legal assistants and lawyers as posted by the U.S. Bureau of Labor Statistics (https://www.bls.gov/oes/current/oes_nat.htm).
** This figure does not represent actual costs that SSA is imposing on recipients of Social Security payments to complete this application; rather, these are theoretical opportunity costs for the additional time respondents will spend to complete the application. There is no actual charge to respondents to complete the application.

II. SSA submitted the information collections below to OMB for clearance. Your comments regarding these information collections would be most useful if OMB and SSA receive them 30 days from the date of this publication. To be sure we consider your comments, we must receive them no later than March 31, 2021. Individuals can obtain copies of these OMB clearance packages by writing to OR.Reports.Clearance@ssa.gov.

1. Letter to Employer Requesting Information About Wages Earned By Beneficiary—20 CFR 404.1520, 404.1571-404.1576, 404.1584-404.1593, and 416.971-416.976—0960-0034. Social Security disability recipients receive payments based on their inability to engage in substantial gainful activity (SGA) because of a physical or mental condition. If the recipients work, SSA must evaluate if they continue to meet the disability requirements of the law. When an individual is unable to provide earnings information and SSA does not have access to proof of earnings, we use Form SSA-L725 to request monthly earnings information from the recipient's employer. SSA employees send the paper from SSA-L725 to the employer to complete, and use the earnings data we receive from the employers to determine whether the recipient is engaging in SGA, since work above SGA level can cause a cessation of disability payments. The respondents are businesses that employ Social Security disability recipients.

Type of Request: Revision of an OMB-approved information collection.

Modality of completion | Number of respondents | Frequency of response | Average burden per response (minutes) | Estimated total annual burden (hours) | Average theoretical hourly cost amount (dollars) * | Total annual opportunity cost (dollars) **
SSA-L725 | 170,000 | 1 | 40 | 113,333 | * $22.79 | ** $2,582,859
* We based this figure on the average Payroll and Timekeeping Clerks hourly salary, as reported by the Bureau of Labor Statistics data (https://www.bls.gov/oes/current/oes433051.htm).
** This figure does not represent actual costs that SSA is imposing on recipients of Social Security payments to complete this application; rather, these are theoretical opportunity costs for the additional time respondents will spend to complete the application. There is no actual charge to respondents to complete the application.

2. Request for Review of Hearing Decision/Order—20 CFR 404.967-404.981, 416.1467-416.1481—0960-0277. Claimants have a right under current regulations to request review of a judge's hearing decision, or dismissal of a hearing request on Title II and Title XVI claims. Claimants may request Appeals Council review by filing a written request using paper Form HA-520, or the internet application, i520. SSA uses the information we collect to establish the claimant filed the request for review within the prescribed time, and to ensure the claimant completed the requisite steps permitting the Appeals Council review. The Appeals Council then uses the information to: (1) Document the claimant's reason(s) for disagreeing with the judge's decision or dismissal; (2) determine whether the claimant has additional evidence to submit; and (3) determine whether the claimant has a representative or wants to appoint one. The respondents are claimants requesting review of a judge's decision or dismissal of hearing.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
HA-520—Paper | 37,900 | 1 | 10 | 6,317 | * $10.95 | ** 24 | *** $235,173
i520—Internet | 113,700 | 1 | 15 | 28,425 | * 10.95 |  | *** 311,254
Totals | 151,600 |  |  | 34,742 |  |  | *** 546,427
* We based this figure on average DI payments based on SSA's current FY 2021 data (https://www.ssa.gov/legislation/2021FactSheet.pdf).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

3. Authorization to Disclose Information to SSA—20 CFR 404.1512 and 416.912, 45 CFR 160 and 164—0960-0623. Sections 223(d)(5)(A) and 1614(a)(3)(H)(i) of the Act require claimants to provide medical and other evidence the Commissioner of Social Security may require to prove they are disabled. SSA must obtain sufficient evidence to make eligibility determinations for Title II and Title XVI payments. The applicants use Form SSA-827, or the internet counterpart, i827, to provide consent for the release of medical records, education records, and other information related to their ability to perform tasks. Once the applicant completes Form SSA-827, or the i827, SSA or the State DDS sends the form to the designated source(s) to obtain pertinent records. The respondents are applicants for Title II and Title XVI disability payments.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-827 with electronic signature (EDCS & eAuthorization) | 4,189,270 | 1 | 9 | 628,391 | * $10.95 |  | *** $6,880,881
SSA-827 with wet signature (paper version) | 1,055,807 | 1 | 10 | 175,968 | * 10.95 | ** 24 | *** 6,551,286
Totals | 5,245,077 |  |  | 804,359 |  |  | *** 13,432,167
* We based this figure on average DI payments based on SSA's current FY 2021 data (https://www.ssa.gov/legislation/2021FactSheet.pdf).
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

4. State Death Match Collections—20 CFR 404.301, 404.310-404.311, 404.316, 404.330-404.341, 404.350-404.352, 404.371, and 416.912—0960-0700. SSA uses the State Death Match Collections to ensure the accuracy of payment files by detecting unreported or inaccurate deaths of beneficiaries. Under the Act, entitlement to retirement, disability, wife's, husband's, or parent's benefits terminate when the beneficiary dies. The states furnish death certificate information to SSA via the manual registration process or the Electronic Death Registration Process (EDR). Both death match processes are automated electronic transfers between the states and SSA. The respondents are the states' bureaus of vital statistics.

Type of Request: Revision of an OMB-approved information collection.

Modality of completion | Number of respondents | Frequency of response | Average cost per record request | Estimated total annual burden (hours) | Average theoretical hourly cost amount (dollars) ** | Total annual opportunity cost (dollars) ***
State Death Match-CyberFusion/GSO: Non-EDR Records from EDR sites | 39 | 68,621 | $0.88 | $2,355,072 | ** $21.09 | *** $1,447,217
State Death Match-CyberFusion/GSO: Non-EDR sites | 5 | 187,570 | 0.88 | 825,308 | ** 21.09 | *** 3,955,851
Total: Non-EDR | 44 |  |  | 3,180,380 |  | 5,403,068
State Death Match-EDR | 48 | 2,573,956 | 2.05 | 253,277,270 | ** 21.09 | *** 54,284,732
States Expected to Become—State Death Match-EDR Within the Next 3 Years ** | 5 | 62,600 | 3.17 | 992,210 | ** 21.09 | *** 1,320,234
Totals: EDR and Expected EDR | 53 |  |  | 254,269,480 |  | *** 55,604,966
Grand Totals | 97 |  |  | 257,449,860 |  | *** 61,008,034
* Please note that both of these data matching processes are electronic and there is only a cost burden, and no hourly burden for the respondent to provide this information.
** We based this figure on the average State BVSs hourly wages, as reported by Bureau of Labor Statistics data (https://www.bls.gov/oes/current/oes434199.htm).
*** This figure does not represent actual costs that SSA is imposing on recipients of Social Security payments to complete this application; rather, these are theoretical opportunity costs for the additional time respondents will spend to complete the application. There is no actual charge to respondents to complete the application.

Dated: February 24, 2021.
Naomi Sipple,
Reports Clearance Officer, Social Security Administration.

[FR Doc. 2021-04165 Filed 2-26-21; 8:45 am]

BILLING CODE 4191-02-P